DEPARTMENT OF THE INTERIOR

Bureau of Land Management

[NV-910-01-0777-30]

Northeastern Great Basin Resource Advisory Council Meeting Location and Time

AGENCY: Bureau of Land, Management, Interior.

ACTION: Resource advisory council's meeting location and time.

SUMMARY: In accordance with the Federal Land Policy and Management Act and the Federal Advisory Committee Act of 1972 (FACA), 5 U.S.C., the Department of the Interior, Bureau of Land Management (BLM), Council meetings will be held as indicated below. The agenda for this meeting includes: Field trip on May 3, 2001, to look at hazardous fuels reduction issues and implementation of rangeland health standards and guidelines; May 4, 2001, review and approval of minutes from January 5, 2001 meeting; discussion of any proposed acquisitions under the southern Nevada Public Lands Management Act; discussion on current status of wild horses and burro gathers and Tactical Plan implementation; update on status of proposed weed free hay certification regulations and current status of the 3809 regulations; discussion of BLM and Forest Service Resource Advisory Councils (RACs); RAC subcommittee reports on Guidelines for Vegetation Management and Off-Highway Vehicles; Field Office updates including any proposed land disposal actions and the California Trail Interpretive Center update.

All meetings are open to the public. The public may present written comments to the Council. Each formal Council meeting will also have time allocated for hearing public comments. The public comment period for the Council meeting is listed below. Depending on the number of persons wishing to comment and time available, the time for individual oral comments may be limited. Individuals who plan to attend and need special assistance, such as sign language interpretation, tour transportation or other reasonable accommodations, should contact the BLM as provided below.

Dates, Times, Place: The time and location of the meeting is as follows: Northeastern Great Basin Resource Advisory Council, Ely BLM Field Office, 702 North Industrial Way, Ely, Nevada, 89301; May 3, field trip, 9:00 a.m.; May 4, Ely BLM Office, beginning at 9:00 a.m. public comment period 10:00 a.m. and 2:00 p.m. adjournment at 3:00 p.m.

FOR FURTHER INFORMATION CONTACT: Diane Murray, Public Affairs Specialist, Battle Mountain Field Office, 50 Bastian Road, Battle Mountain, NV 89820, telephone (775) 635-4000.

SUPPLEMENTARY INFORMATION: The purpose of the Council is to advise the Secretary of the Interior, through the BLM, on a variety of planning and management issues, associated with the management of the public lands.

Helen M. Hankins,
Field Office Manager.

[FR Doc. 01-8972 Filed 4-10-01; 8:45 am]

BILLING CODE 4310-HC-M